NATIONAL MEDIATION BOARD

Performance Review Board Appointments

AGENCY: National Mediation Board.

ACTION: Notice of Performance Review Board appointments.

SUMMARY: This notice announces the appointment of those individuals who have been selected to serve as members of the Performance Review Board (PRB). The PRB is comprised of two career senior executives and one non-career executive that will meet annually to review and evaluate performance appraisal documents for all Senior Executive Service (SES) members. The National Mediation Board (NMB) is headed by a three-member board nominated by the President and confirmed by the U.S. Senate. The members self-designate a Chairman, typically on a yearly basis. Members may continue to serve after their three-year terms are up if they are not replaced. The PRB provides a written recommendation to the appointing authority. The current Board Chairman or Acting Board Chairman is the appointing authority for the National Mediation Board for final approval of each SES and SL performance rating, performance-based pay adjustment, and performance award.

DATES: Applicable date: These appointments were effective on December 15, 2023.

FOR FURTHER INFORMATION CONTACT:

Michael Jerger, Chief Financial Officer, National Mediation Board, 1301 K St NW, #250E, Washington, DC 20005. Office: (202) 692-5047 | Mobile: (202) 669-2766, Email: jerger@nmb.gov.

Morenikeji (Keji) Anjorin, Human Resource Specialist, National Mediation Board, 1301 K St NW, #250E, Washington, DC 20005, Email: Morenikeji.Anjorin@NMB.GOV, Phone: 202 692 5073 | Mobile Phone: 202-440-1759.

SUPPLEMENTARY INFORMATION: The Chairman of the National Mediation Board, has appointed the following individuals to serve on the Board's Performance Review Board (PRB), accordance with 5 U.S.C. 4314(c)(4).

Chairman of the National Mediation Board: Deirdre Hamilton.

SES Members

1. Debra Hall—Occupational Safety and Health Review Commission (OSHRC)

2. Nadine Mancini—Occupational Safety and Health Review Commission (OSHRC)

Solicitor

3. Fred Jacob—National Labor Relations Board (NLRB)

Accessible Format: On request to the Agency contact persons listed under FOR FURTHER INFORMATION CONTACT, individuals with disabilities can obtain this document in an accessible format. The Agency will provide the requestor with an accessible format that may include Adobe Acrobat Pro (PDF), Word, or Excel.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Morenikeji Anjorin,
Human Resource Specialist, National Mediation Board.

[FR Doc. 2023-28667 Filed 12-27-23; 8:45 am]

BILLING CODE 7550-01-P